DEPARTMENT OF EDUCATION

[CFDA No: 84.184N]

Office of Elementary and Secondary Education—Safe and Drug-Free Schools and Communities National Programs—Federal Activities—Alcohol and Other Drug Prevention Models on College Campuses Grant Competition; Notice Inviting Applications for New Awards for Fiscal Year (FY) 2001

Purpose of Program: The Alcohol and Other Drug Prevention Models on College Campuses Grant Competition provides awards to maintain, improve, further evaluate, and disseminate models of alcohol and other drug prevention at institutions of higher education.

Eligible Applicants: Institutions of higher education (IHEs). To be eligible, an IHE must not have received an award under this competition (under either CFDA 84.116X or 84.184N) during the previous two fiscal years.

Applications Available: October 16, 2000.

Deadline for Transmittal of Applications: December 13, 2000.

Deadline for Intergovernmental Review: February 13, 2001.

Estimated Available Funds: $600,000. The estimated amount of funds available under this competition is based on the Administration's budget request for this program for FY 2001. The actual level of funding, if any, is contingent upon final Congressional action.

Estimated Range of Awards: $60,000-$100,000.

Estimated Average Size of Awards: $85,000.

Estimated Number of Awards: 7.

Note: The Department is not bound by any estimates in this notice.

Project Period: Up to 12 months.

Applicable Regulations: (a) The Education Department General Administrative Regulations (EDGAR) in 34 CFR parts 74, 75, 77, 79, 80, 81, 82, 85, 86, 97, 98, and 99; and (b) the notice of final priority, eligible applicants, and selection criteria, as published in the Federal Register on April 6, 2000 (65 FR 18204-18205).

For Applications and Further Information Contact: Kimberly Light, U.S. Department of Education, Safe and Drug-Free Schools Program, 400 Maryland Avenue, SW, Room 3E222, Washington, DC 20202-6123. Telephone: (202) 260-2647. Facsimile: (202) 260-7767. Email:

kimberly_light@ed.gov.

If you use a telecommunications device for the deaf (TDD), you may call the Federal Information Relay Service (FIRS) at (800) 877-8339.

Individuals with disabilities may obtain a copy of this document in an alternative format (e.g., Braille, large print, audiotape, or computer diskette) on request to the program contact person listed under For Applications and Further Information Contact. Individuals with disabilities may also obtain a copy of the application package in an alternative format by contacting that person. However, the Department is not able to reproduce in an alternate format the standard forms included in the application package.

INSTRUCTIONS FOR TRANSMITTAL OF APPLICATIONS

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

The U.S. Department of Education is expanding its pilot project of electronic submission of applications to include certain formula grant programs, as well as additional discretionary grant competitions. The Alcohol and Other Drug Prevention Models on College Campuses Grant Competition (CFDA #84.184N) is one of the programs included in the pilot project. If you are an applicant under this program, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Fax a signed copy of the Application for Federal Assistance (ED 424) after following these steps:

1. Print ED 424 from the -e-APPLICATION system.

2. Make sure that the institution's Authorizing Representative signs this form.

3. Before faxing this form, submit your electronic application via the -e-APPLICATION system. You will receive an automatic acknowledgement, which will include a PR/Award number (an identifying number unique to your application).

4. Place the PR/Award number in the upper right haNd corner of ED 424.

5. Fax ED 424 to the Application Control Center within three working days of submitting your electronic application. We will indicate a fax number in e-APPLICATION at the time of your submission.

• We may request that you give us original signatures on all other forms at a later date.

You may access the electronic grant application for the Alcohol and Other Drug Prevention Models on College Campuses Grant Competition at:

http://e-grants.ed.gov

We have included additional information about the e-APPLICATION pilot project (see Parity Guidelines between Paper and Electronic Applications) in the application package.

(A) If You Send Your Application by Mail:

You must mail the original and two copies of the application on or before the deadline date to: U.S. Department of Education, Application Control Center, Attention: CFDA #84.184N, Washington, DC 20202-4725.

You must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

If you mail an application through the U.S. Postal Service, we do not accept either of the following as proof of mailing:

(1) A private metered postmark.

(2) A mail receipt that is not dated by the U.S. Postal Service.

(B) If You Deliver Your Application by Hand:

You or your courier must hand deliver the original and two copies of the application by 4:30 p.m. (Washington, DC time) on or before the deadline date to: U.S. Department of Education, Application Control Center, Attention: CFDA #84.184N, Room 3633, Regional Office Building 3, 7th and D Streets, SW, Washington, DC.

The Application Control Center accepts application deliveries daily between 8:00 a.m. and 4:30 p.m. (Washington, DC time), except Saturdays, Sundays, and Federal holidays. The Center accepts application deliveries through the D Street entrance only. A person delivering an application must show identification to enter the building.

Notes: (1) The U.S. Postal Service does not uniformly provide a dated postmark. Before relying on this method, you should check with your local post office.

(2) If you send your application by mail or deliver it by hand or by a courier service, the Application Control Center will mail a Grant Application Receipt Acknowledgment to you. If you do not receive the notification of application receipt within 15 days from the date of mailing the application, you should call the U.S. Department of Education Application Control Center at (202) 708-9493.

(3) You must indicate on the envelope and—if not provided by the Department—in Item 3 of the Application for Federal Education Assistance (ED 424; revised November 12, 1999) the CFDA number—and suffice letter—of the competition under which you are submitting your application.

(4) If you submit your application through the Internet via the e-grants Web site, you will receive an automatic acknowledgment when we receive your application.

Electronic Access to This Document

You may view this document, as well as all other Department of Education documents published in the Federal Register, in text or Adobe Portable Document Format (PDF) on the Internet at either of the following sites:

http://ocfo.ed.gov/fedreg.htm

http://www.ed.gov/news.html

To use PDF, you must have Adobe Acrobat Reader, which is available free at either of the previous sites. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at:

http://www.access.gpo.gov/nara/index.htm

Program Authority: 20 U.S.C. 7131.

Dated: October 12, 2000.
Michael Cohen,
Assistant Secretary for Elementary and Secondary Education.

[FR Doc. 00-26592 Filed 10-13-00; 8:45 am]

BILLING CODE 4000-01-M